NUCLEAR REGULATORY COMMISSION

10 CFR Part 2

RIN 3150-AG49

Changes to Adjudicatory Process; Correction

AGENCY: Nuclear Regulatory Commission.

ACTION: Final rule: correction.

SUMMARY: This document corrects a final rule appearing in the Federal Register on January 14, 2004 (69 FR 2182) amending the NRC's regulations concerning its rules of practice for adjudications. This action is necessary to correct unintentional errors in the final rule, including the title of the Appendix, the omission of an entry in the table, and the formatting of the table.

DATES: Effective Date: February 13, 2004.

FOR FURTHER INFORMATION CONTACT: Geary S. Mizuno, Office of the General Counsel, U.S. Nuclear Regulatory Commission, Washington, DC 20555-0001, telephone (301) 415-1639, e-mail GSM@nrc.gov.

SUPPLEMENTARY INFORMATION: This document corrects the title, formatting and the unintentional omission of an entry in Appendix D to Part 2 that was published as part of the final rule that amended its rules of practice on January 14, 2004 (69 FR 2182).

List of Subjects in 10 CFR Part 2

Administrative practice and procedure, Antitrust, Byproduct material, Classified information, Environmental protection, Nuclear materials, Nuclear power plants and reactors, Penalties, Sex discrimination, Source material, Special nuclear material, Waste treatment and disposal.

PART 2—RULES OF PRACTICE FOR DOMESTIC LICENSING PROCEEDINGS AND ISSUANCE OF ORDERS

1. The authority citation for part 2 continues to read as follows:

Authority: Secs. 161, 181, 68 Stat. 948, 953, as amended (42 U.S.C. 2201, 2231); sec. 191, as amended, Pub. L. 87-615, 76 Stat. 409 (42 U.S.C. 2241); sec. 201, 88 Stat. 1242, as amended (42 U.S.C. 5841); 5 U.S.C. 552; sec. 1704, 112 Stat. 2750 (44 U.S.C. 3504 note). Section 2.101 also issued under secs. 53, 62, 63, 81, 103, 104, 105, 68 Stat. 930, 932, 933. 935, 936, 937, 938, as amended (42 U.S.C. 2073, 2092, 2093, 2111, 2133, 2134, 2135); sec. 114(f); Pub. L. 97-425, 96 Stat. 2213, as amended (42 U.S.C. 10143(0); sec. 102, Pub. L 91-190, 83 Stat. 853, as amended (42 U.S.C. 4332); sec. 301, 88 Stat. 1248 (42 U.S.C. 5871). Section 2.102, 2.103, 2.104, 2.105, 2.321 also issued under secs. 102, 163, 104, 105, 183i, 189, 68 Stat. 936, 937, 938, 954, 955, as amended (42 U.S.C. 2132, 2133, 2134, 2135, 2233, 2239). Section 2.105 also issued under Pub. L. 97-415, 96 Stat. 2073 (42 U.S.C. 2239). Sections 2.200-2.206 also issued under secs. 161 b. i, o, 182, 186, 234, 68 Stat. 948-951, 955, 83 Stat. 444, as amended (42 U.S.C. 2201(b), (i), (o), 2236, 2282); sec. 206, 88 Stat. 1246 (42 U.S.C. 5846). Section 2.205(j) also issued under Pub. L. 101-410, 104 Stat. 90, as amended by section 3100(s), Pub. L. 104-134, 110 Stat. 1321-373 (28 U.S.C. 2461 note). Subpart C also issued under sec. 189, 68 Stat. 955 (42 U.S.C. 2239). Sections 2.600-2.606 also issued under sec. 102, Pub. L. 91-190, 83 Stat. 853, as amended (42 U.S.C. 4332). Section 2.700a also issued under 5 U.S.C. 554. Sections 2.343, 2.346, 2.754, 2.712, also issued under 5 U.S.C. 557. Section 2.764 also issued under secs. 135, 141, Pub. L. 97-425, 96 Stat. 2232, 2241 (42 U.S.C. 10155, 10161). Section 2.790 also issued under sec. 103, 68 Stat. 936, as amended (42 U.S.C. 2133) and 5 U.S.C. 552. Sections 2.800 and 2.808 also issued under 5 U.S.C. 553, Section 2.809 also issued under 5 U.S.C. 553, and sec. 29, Pub, L. 85-256, 71 Stat. 579, as amended (42 U.S.C. 2039). Subpart K also issued under sec. 189, 68 Stat. 955 (42 U.S.C. 2239); sec. 134, Pub. L. 97-425, 96 Stat. 2230 (42 U.S.C. 10154). Subpart L also issued under sec. 189, 68 Stat. 955 (42 U.S.C. 2239). Subpart M also issued under sec. 184 (42. U.S.C. 2234) and sec. 189, 68 Stat. 955 (42 U.S.C. 2239). Subpart N also issued under sec. 189, 68 Stat. 955 (42 U.S.C. 2239). Appendix A also issued under sec. 6, Pub. L. 91-550, 84 Stat. 1473 (42 U.S.C. 2135).

2. Appendix D to part 2 is corrected to read as follows:

Appendix D to Part 2—Schedule for the Proceeding on Consideration of Construction Authorization for a High-Level Waste Geologic Repository.

Day | Regulation (10 CFR) | Action
0 | 2.101(f)(8), 2.105(a)(5) | Federal Register Notice of Hearing.
30 | 2.309(b)(2) | Petition to intervene/request for hearing, w/contentions.
30 | 2.309(b)(2) | Petition for status as interested government participant.
55 | 2.315(c) | Answers to intervention & interested government participant Petitions.
62 | 2.309(h)(1) | Petitioner's response to answers.
70 | 2.1021 | First Prehearing conference.
100 | 2.309(h)(2) | First Prehearing Conference Order identifying participants in proceeding, admitted contentions, and setting discovery and other schedules.
110 | 2.1021 | Appeals from First Prehearing Conference Order.
120 |  | Briefs in opposition to appeals.
150 | 2.1021, 2.329 | Commission ruling on appeals for First Prehearing Conference Order.
548 |  | NRC Staff issues SER.
578 | 2.1022 | Second Prehearing Conference.
608 | 2.1021, 2.1022 | Discovery complete; Second Prehearing Conference Order finalizes issues for hearing and sets schedule for prefiled testimony and hearing.
618 | 2.1015(b) | Appeals from Second Prehearing Conference Order.
628 | 2.1015(b), c.f. 2.710(a) | Briefs in opposition to appeals; last date for filing motions for summary disposition.
648 | c.f. 2.710(a) | Last date for responses to summary disposition motions.
658 | 2.710(a) | Commission ruling on appeals from Second Prehearing Conference Order; last date for party opposing summary disposition motion to file response to new facts and arguments in any response supporting summary disposition motion.
698 | 2.1015(b) | Decision on summary disposition motions (may be determination to dismiss or to hold in abeyance).
720 | c.f. 2.710(a) | Evidentiary hearing begins.
810 |  | Evidentiary hearing ends.
840 | 2.712(a)(1) | Applicant's proposed findings.
850 | 2.712(a)(2) | Other parties' proposed findings.
855 | 2.712(a)(3) | Applicant's reply to other parties' proposed findings.
955 | 2.713 | Initial decision.
965 | 2.342(a), 2.345(a), 2.1015(c)(1) | Stay motion. Petition for reconsideration, notice of appeal.
975 | 2.342(d), 2.345(b) | Other parties' responses to stay motion and Petitions for reconsideration.
985 |  | Commission ruling on stay motion.
995 | 2.1015(c)(2) | Appellant's briefs.
1015 | 2.1015(c)(3) | Appellee's briefs.
1055 | 2.1023 Supp. Info | Completion of NMSS and Commission supervisory review; issuance of construction authorization; NWPA 3-year period tolled.
1125 |  | Commission decision.

Dated at Rockville, Maryland, this 5th day of May, 2004.
For the Nuclear Regulatory Commission.
Michael T. Lesar,
Federal Register Liaison Officer.

[FR Doc. 04-10615 Filed 5-10-04; 8:45 am]

BILLING CODE 7590-01-P